DEPARTMENT OF ENERGY

Federal Energy Regulatory Commission

Combined Notice of Filings #2

Take notice that the Commission received the following exempt wholesale generator filings:

Docket Numbers: EG15-118-000.

Applicants: South Plains Wind Energy, LLC.

Description: Notice of Self-Certification of Exempt Wholesale Generator Status of South Plains Wind Energy, LLC.

Filed Date: 8/28/15.

Accession Number: 20150828-5212.

Comments Due: 5 p.m. ET 9/18/15.

Take notice that the Commission received the following electric rate filings:

Docket Numbers: ER15-36-001.

Applicants: The Dayton Power and Light Company.

Description: Compliance filing: FERC Rate Schedule No. 304, Village of Mendon to be effective 1/1/2015.

Filed Date: 8/28/15.

Accession Number: 20150828-5184.

Comments Due: 5 p.m. ET 9/18/15.

Docket Numbers: ER15-37-001.

Applicants: The Dayton Power and Light Company.

Description: Compliance filing: FERC Rate Schedule No. 305, Village of Waynesfield to be effective 1/1/2015.

Filed Date: 8/28/15.

Accession Number: 20150828-5186.

Comments Due: 5 p.m. ET 9/18/15.

Docket Numbers: ER15-38-001.

Applicants: The Dayton Power and Light Company.

Description: Compliance filing: FERC Rate Schedule No. 306, Village of Yellow Springs to be effective 1/1/2015.

Filed Date: 8/28/15.

Accession Number: 20150828-5187.

Comments Due: 5 p.m. ET 9/18/15.

Docket Numbers: ER15-40-001.

Applicants: The Dayton Power and Light Company.

Description: Compliance filing: FERC Rate Schedule No. 301, Village of Arcanum to be effective 1/1/2015.

Filed Date: 8/28/15.

Accession Number: 20150828-5189.

Comments Due: 5 p.m. ET 9/18/15.

Docket Numbers: ER15-41-001.

Applicants: The Dayton Power and Light Company.

Description: Compliance filing: FERC Rate Schedule No. 302, Village of Eldorado to be effective 1/1/2015.

Filed Date: 8/28/15.

Accession Number: 20150828-5193.

Comments Due: 5 p.m. ET 9/18/15.

Docket Numbers: ER15-2560-000.

Applicants: Southwest Power Pool, Inc.

Description: Section 205(d) Rate Filing: 2198R19 Kansas Power Pool NITSA NOA to be effective 8/1/2015.

Filed Date: 8/28/15.

Accession Number: 20150828-5181.

Comments Due: 5 p.m. ET 9/18/15.

Docket Numbers: ER15-2561-000.

Applicants: DB Energy Trading LLC.

Description: Tariff Cancellation: Notice of Cancellation of Market-Based Rate Tariff to be effective 10/27/2015.

Filed Date: 8/28/15.

Accession Number: 20150828-5211.

Comments Due: 5 p.m. ET 9/18/15.

Docket Numbers: ER15-2562-000.

Applicants: PJM Interconnection, L.L.C.

Description: Section 205(d) Rate Filing: Revisions to OATT Schedule 12-Appdx A- RTEP approved by PJM Board in July 2015 to be effective 11/26/2015.

Filed Date: 8/28/15.

Accession Number: 20150828-5221.

Comments Due: 5 p.m. ET 9/18/15.

Docket Numbers: ER15-2563-000.

Applicants: PJM Interconnection, L.L.C.

Description: Section 205(d) Rate Filing: Revisions to OATT Schedule 12- Appdx A-RTEP Artificial Island Projects July 2015 to be effective 11/26/2015.

Filed Date: 8/28/15.

Accession Number: 20150828-5243.

Comments Due: 5 p.m. ET 9/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 28, 2015.
Kimberly D. Bose,
Secretary.

[FR Doc. 2015-21982 Filed 9-3-15; 8:45 am]

BILLING CODE 6717-01-P